DEPARTMENT OF DEFENSE

Office of the Secretary

Establishment of a New Standard Form

AGENCY: Under Secretary of Defense for Personnel and Readiness, Federal Voting Assistance Program.

ACTION: Notice.

SUMMARY: The Department of Defense, Under Secretary of Defense for Personnel and Readiness, Federal Voting Assistance Program is establishing a new form, Standard Form 186A, Federal Write-In Absentee Ballot (Electronic). This form is an alternative to the current Standard Form 186, Federal Write-In Absentee Ballot.

Since this form is only electronic, users can get it from the following Federal Voting Assistance Program Web site: http://www.fvap.gov.

DATES: Effective upon publication in the Federal Register.

FOR FURTHER INFORMATION CONTACT: Ms. Glynda Hughes, Department of Defense (703) 604-4578.

SUPPLEMENTARY INFORMATION: The following is a list of differences between the hard copy SF 186 and the electronic SF 186A.

Paragraphs 2b. and 2c. of the Instructions are not on the hard copy SF 186. These paragraphs are added to provide the citizen instructions on how to package the ballot since no envelopes are provided with the electronic version.

Paragraph 3. of the electronic version does not include the instruction, “Remove tape from the Security Envelope and seal.”

Paragraph 4. of the electronic version contains additional instructions for the citizens to prepare the voter supplied envelopes for mailing.

Dated: October 18, 2004.
Patricia L. Toppings,
Alternate OSD Federal Register Liaison Officer, Department of Defense.

BILLING CODE 5001-06-M

[FR Doc. 04-23572 Filed 10-18-04; 12:40 pm]

BILLING CODE 5001-06-C